DEPARTMENT OF COMMERCE

International Trade Administration

[A-533-838, C-533-839, and A-570-892]

Carbazole Violet Pigment From India and the People's Republic of China: Continuation of the Antidumping Duty Orders and Countervailing Duty Order

AGENCY: Enforcement and Compliance, International Trade Administration, Department of Commerce.

SUMMARY: The Department of Commerce (the Department) and the International Trade Commission (the ITC) have determined that revocation of the antidumping duty (AD) orders on carbazole violet pigment (CVP-23) from the People's Republic of China (PRC) and India would likely lead to continuation or recurrence of dumping and material injury to an industry in the United States. The Department and the ITC have also determined that revocation of the countervailing duty (CVD) order on CVP-23 from India would likely lead to continuation or recurrence of net countervailable subsidies and material injury to an industry in the United States. Therefore, the Department is publishing a notice of continuation for these AD and CVD orders.

DATES: Effective Date: November 17, 2015.

FOR FURTHER INFORMATION CONTACT: Kaitlin Wojnar (AD Orders), AD/CVD Operations, Office VII, or Jacqueline Arrowsmith (CVD Order), AD/CVD Operations, Office VII, Enforcement and Compliance, International Trade Administration, U.S. Department of Commerce, 14th Street and Constitution Avenue NW., Washington, DC 20230; telephone: (202) 482-3857 or (202) 482-5255, respectively.

SUPPLEMENTARY INFORMATION:

Background

On April 1, 2015, the Department initiated ¹ and the ITC instituted ² five-year (sunset reviews) of the AD and CVD orders on CVP-23 from India and the PRC,³ pursuant to section 751(c) of the Tariff Act of 1930, as amended (the Act). As a result of its reviews, the Department determined that revocation of the AD orders from the PRC and India would likely lead to continuation or recurrence of dumping and that revocation of the CVD order from India would likely lead to continuation or recurrence of net countervailable subsidies. Therefore, the Department notified the ITC of the magnitude of the margins and the subsidy rates likely to prevail should the orders be revoked, pursuant to sections 751(c)(1) and 752(b) and (c) of the Act.⁴

¹ See Initiation of Five-Year (“Sunset”) Reviews, 80 FR 17388 (April 1, 2015).

² See Carbazole Violet Pigment 23 From China and India: Institution of Five-Year Reviews, 80 FR 17493 (April 1, 2015).

³ See Antidumping Duty Order: Carbazole Violet Pigment 23 From the People's Republic of China, 69 FR 77987, (December 29, 2004) and Notice of Amended Final Determination of Sales at Less Than Fair Value and Antidumping Duty Order: Carbazole Violet Pigment 23 From India, 69 FR 77988, (December 29, 2004), see also Notice of Countervailing Duty Order: Carbazole Violet Pigment 23 From India, 69 FR 77995, (December 29, 2004).

⁴ See Carbazole Violet Pigment 23 From India and the People's Republic of China: Final Results of Expedited Second Sunset Reviews of Antidumping Duty Orders, 80 FR 46955, (August 6, 2015) and Carbazole Violet Pigment 23 From India: Final Results of Expedited Second Sunset Review of the Countervailing Duty Order, 80 FR 47462, (August 7, 2015).

On November 6, 2015, the ITC published its determination that revocation of the AD order on CVP-23 from India and the PRC would likely lead to continuation or recurrence of material injury to an industry in the United States within a reasonably foreseeable time, pursuant to section 751(c) of the Act.⁵

⁵ See Carbazole Violet Pigment 23 From China and India; Determinations, 80 FR 68878 (November 6, 2015).

Scope of the Order

The merchandise subject to this countervailing duty order is CVP-23 identified as Color Index No. 51319 and Chemical Abstract No. 6358-30-1, with the chemical name of diindolo [3,2-b:3′,2′-m] ⁶ triphenodioxazine, 8,18-dichloro-5, 15-diethy-5, 15-dihydro-, and molecular formula of C34H22Cl2N4O2. The subject merchandise includes the crude pigment in any form (e.g., dry powder, paste, wet cake) and finished pigment in the form of presscake and dry color. Pigment dispersions in any form (e.g., pigments dispersed in oleoresins, flammable solvents, water) are not included within the scope of the investigation. The merchandise subject to this countervailing duty order is classifiable under subheading 3204.17.9040 of the Harmonized Tariff Schedule of the United States (HTSUS). Although the HTSUS subheadings are provided for convenience and customs purposes, our written description of the scope of this order is dispositive.

⁶ The bracketed section of the product description, [3,2-b:3′,2′-m], is not business proprietary information. In this case, the brackets are simply part of the chemical nomenclature. See December 4, 2003, amendment to petition at 8.

During this sunset review period, there was one scope ruling completed between October 1, 2011, and December 31, 2011.⁷ The scope ruling was requested by Petitioners. On October 14, 2011, we determined that finished carbazole violet pigment exported from Japan, made from crude carbazole violet pigment from India, is within the scope of the CVD Order.

⁷ See Notice of Scope Rulings, 77 FR 38767 (June 29, 2012).

Continuation of the Orders

As a result of the determinations by the Department and the ITC that revocation of the AD orders would likely lead to a continuation or recurrence of dumping and material injury to an industry in the United States and revocation of the CVD order would likely lead to continuation or recurrence of countervailable subsidies and material injury to an industry in the United States. Pursuant to section 75l(d)(2) of the Act and 19 CFR 351.218(a), the Department hereby orders the continuation of the AD orders on CVP-23 from India and the PRC, and the CVD order on CVP-23 from India. U.S. Customs and Border Protection will continue to collect AD and CVD cash deposits at the rates in effect at the time of entry for all imports of subject merchandise.

The effective date of the continuation of the AD order and CVD order will be the date of publication in the Federal Register of this notice of continuation. Pursuant to section 751(c)(2) of the Act and 19 CFR 351.218(c)(2), the Department intends to initiate the next five-year review of these orders not later than 30 days prior to the fifth anniversary of the effective date of this continuation notice.

These five-year sunset reviews and this notice are in accordance with section 751(c) and 751(d)(2) of the Act and published pursuant to section 777(i)(1) of the Act and 19 CFR 351.218(f)(4).

Dated: November 9, 2015.
Paul Piquado,
Assistant Secretary for Enforcement and Compliance.

[FR Doc. 2015-29361 Filed 11-16-15; 8:45 am]

BILLING CODE 3510-DS-P